DEPARTMENT OF THE INTERIOR

Environmental Statements; Notice of intent; Biscayne National Park, FL

AGENCY: National Park Service.

ACTION: Notice of intent to prepare a Draft Environmental Impact Statement for a General Management Plan Amendment for Biscayne National Park, Florida.

SUMMARY: Under the provisions of the National Environmental Policy Act of 1969, the National Park Service (NPS) is preparing a draft environmental impact statement (DEIS) for an Amendment to the Biscayne National Park General Management Plan. This effort will result in a plan to guide the management of the 7 stilt structures that are located in the northern end of Biscayne National Park in Biscayne Bay, Florida. Management options being considered include removing the structures from the bay, public use of the structures consistent with NPS policy and best management practices for environmental protection, leasing the structures to a non-profit trust, and leasing the structures for private uses under NPS management.

Major issues potential impacts on water quality, biological resources, scenic resources, cultural resources, and the visitor experience.

To facilitate sound planning and consideration of environmental resources, the NPS intends to gather information necessary for the preparation of the General Management Plan Amendment/DEIS and to obtain suggestions and information from other agencies and the public on the scope of issues to be addressed in the Management Plan Amendment/DEIS. Comments and participation in this scoping process are invited. Participation in the planning process will be encouraged and facilitated by various means, including newsletters and, subsequent to the issuance of a draft General Management Plan Amendment/DEIS, by open houses or meetings. Comments previously submitted to NPS pursuant to public meetings held on September 24 and 25, 2001, in Miami, Florida and Homestead, Florida to provide the public an opportunity to give their ideas to the NPS regarding the future of Stiltsville will continue to be part of the public record on this planning process. Similarly, comments on future uses of Stiltsville were also received during Biscayne National Park's General Management Plan public scoping meetings held in January 2001 and September 2001 in various locations and these will also be part of the public record.

DATES: The NPS will conduct public open house meetings to receive public comments on the Draft General Management Plan Amendment/DEIS. Locations, dates, and times of public open house meetings will be announced in the local press, in NPS newsletters and on the park website, http://www.nps.gov/bisc and may also be obtained by contacting Biscayne National Park.

ADDRESSES: Written comments and information concerning the scope of the General Management Plan Amendment/DEIS and other matters should be sent to the following address: General Management Plan Amendment, Biscayne National Park, 9700 SW 328th St., Homestead, Florida 33033. Requests to be added to the project mailing list should be directed to the same address.

FOR FURTHER INFORMATION CONTACT: Superintendent, Biscayne National Park, 305-230-1144 ext. 3002.

SUPPLEMENTARY INFORMATION: The NPS is developing an amendment to Biscayne National Park's 1983 General Management Plan for management of the 7 stilt structures located in the northern part of Biscayne National Park in Biscayne Bay. In 1980, the park's northern boundary expanded and Biscayne National Monument became Biscayne National Park. In 1985, when the State of Florida transferred ownership of the bay bottom within the expansion area to the park, it also transferred the leases for the property, which the structures occupy. The leases expired in July 1999. The park's 1983 General Management Plan, Development Concept Plan, Wilderness Study, and Environmental Assessment recommended removing the structures before the leases expired. Because of numerous expressions of public interest in maintaining the structures, the NPS initiated a multi-stage planning process to identify and recommend future public uses of the structures consistent with NPS policy.

Our practice is to make comments, including names and addresses of respondents available for public review during regular business hours. If you wish for us to withhold your name and/or address, you must state this prominently at the beginning of your comment. However, we will not consider anonymous comments. We will make all submissions from organizations or businesses, and from individuals identifying themselves as representatives or officials of organizations or businesses, available for public inspection in their entirety.

Dated: May 15, 2002.
W. Thomas Brown,
Acting Regional Director, Southeast Region.

[FR Doc. 02-15666 Filed 6-20-02; 8:45 am]

BILLING CODE 4310-70-M